NUCLEAR REGULATORY COMMISSION

[Docket No. 99902100; NRC-2024-0078]

US SFR Owner, LLC; Construction Permit Application

AGENCY: Nuclear Regulatory Commission.

ACTION: Notice; receipt.

SUMMARY: The U.S. Nuclear Regulatory Commission (NRC) is providing public notice each week for four consecutive weeks of receipt and availability of an application for a construction permit for a single unit reactor facility from US SFR Owner, LLC, a wholly owned subsidiary of TerraPower, LLC. The application for the construction permit was received on March 28, 2024, and a supplement to the application was submitted on May 2, 2024.

DATES: May 14, 2024.

ADDRESSES: Please refer to Docket ID NRC-2024-0078 when contacting the NRC about the availability of information for this action. You may obtain publicly available information related to this action by any of the following methods:

• Federal Rulemaking Website: Go to https://www.regulations.gov and search for Docket ID NRC-2024-0078. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Mallecia Sutton, Office of Nuclear Reactor Regulation, U.S. Nuclear Regulatory Commission, Washington, DC 20555-0001; telephone: 301-415-0673, email: Mallecia.Sutton@nrc.gov.

I. Discussion

On March 28, 2024, TerraPower, LLC (TerraPower), on behalf of US SFR Owner, LLC., a wholly owned subsidiary of TerraPower, filed an application for a construction permit for a single-unit power reactor facility located in Lincoln County, Wyoming, pursuant to section 103 of the Atomic Energy Act, as amended, and part 50 of title 10 of the Code of Federal Regulations (10 CFR), “Domestic Licensing of Production and Utilization Facilities.” The single-unit facility is to be identified as Kemmerer Power Station, Unit 1 and would be based on the TerraPower and General Electric-Hitachi Natrium reactor design which is a pool-type sodium fast reactor using metal fuel.

The application submitted on March 28, 2024, is available in ADAMS under Package Accession No. ML24088A059. Along with other documents, the ADAMS package includes the transmittal letter (ADAMS Accession No. ML24088A060), the preliminary safety analysis report (ADAMS Accession No. ML24088A065), and the environmental report (ADAMS Accession No. ML24088A072). The application was supplemented on May 2, 2024 (ADAMS Accession No. ML24123A242). The information submitted by the applicant includes certain administrative information submitted pursuant to 10 CFR 50.33, such as on financial qualifications; technical information submitted pursuant to 10 CFR 50.34; and the environmental report submitted pursuant to 10 CFR part 51, “Environmental Protection Regulations for Domestic Licensing and Related Regulatory Functions.” These notices are being provided in accordance with the requirements in 10 CFR 50.43(a)(3).

The NRC staff is currently undertaking its acceptance review of the application. If the application is accepted for docketing, a subsequent Federal Register notice will be issued that addresses the acceptability of the construction permit application for docketing and provisions for participation of the public in the permitting process.

Dated: May 8, 2024.
For the Nuclear Regulatory Commission.
Mallecia A. Sutton,
Senior Project Manager, Advanced Reactor Licensing Branch 1, Division of Advanced Reactors and Non-Power Production and Utilization Facilities, Office of Nuclear Reactor Regulation.

[FR Doc. 2024-10474 Filed 5-13-24; 8:45 am]

BILLING CODE P